DEPARTMENT OF THE INTERIOR

National Park Service

[NPS-WASO-NAGPRA-NPS0025515; PPWOCRADN0-PCU00RP14.R50000]

Notice of Inventory Completion: Florida Department of State, Division of Historical Resources, Tallahassee, FL

AGENCY: National Park Service, Interior.

ACTION: Notice.

SUMMARY: The Florida Department of State, Division of Historical Resources, has completed an inventory of human remains and associated funerary objects, in consultation with the appropriate Indian Tribes or Native Hawaiian organizations, and has determined that there is a cultural affiliation between the human remains and associated funerary object and present-day Indian Tribes or Native Hawaiian organizations. Lineal descendants or representatives of any Indian Tribe or Native Hawaiian organization not identified in this notice that wish to request transfer of control of these human remains and associated funerary object should submit a written request to the Florida Department of State, Division of Historical Resources. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and associated funerary object should submit a written request with information in support of the request to the Florida Department of State, Division of Historical Resources at the address in this notice by June 20, 2018.

ADDRESSES: Kathryn Miyar, Florida Department of State, Mission San Luis Collections, 2100 West Tennessee Street, Tallahassee, FL 32304, telephone (850) 245-6301, email kathryn.miyar@dos.myflorida.com.

SUPPLEMENTARY INFORMATION: Notice is here given in accordance with the Native American Graves Protection and Repatriation Act (NAGPRA), 25 U.S.C. 3003, of the completion of an inventory of human remains and associated funerary objects under the control of the Florida Department of State, Division of Historical Resources, Tallahassee, FL. The human remains and associated funerary object were removed from the FCI Borrow site, Jackson County, FL.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the Florida Department of State, Division of Historical Resources professional staff in consultation with representatives of the Alabama-Coushatta Tribe of Texas (previously listed as the Alabama-Coushatta Tribes of Texas); Alabama-Quassarte Tribal Town; Kialegee Tribal Town; Miccosukee Tribe of Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; and Thlopthlocco Tribal Town. The Florida Tribe of Eastern Creek Indians and Original Miccosukee Simanolee Nation of Aboriginal People, non-federally recognized Indian groups, were also consulted.

History and Description of the Remains

In 1974, human remains representing, at minimum, two individuals were removed from the FCI Borrow site in Jackson County, FL. The human remains of an infant (approx. one year of age) were encountered during a fill mining excavation at the county-owned FCI Borrow pit. A Jackson County Sheriff's officer was called, and he removed the human remains and one associated funerary object (a shell pendant) from the site prior to notifying the Department of State. Turquoise green glass beads were also noted as being present in the infant burial, but they crumbled when an attempt was made to remove them, and were, therefore, left in situ and not collected. Archaeologist B. Calvin Jones was sent by the Department of State to investigate the site. During his investigation, he collected a small amount of additional material from the site's surface including the human remains belonging to an adult (aged as approx. 20+ years of age). Jones transferred the skeletal remains of these two individuals and the associated funerary object to the Florida Department of State collections in 1974, but they were not formally cataloged until 1993. No known individuals were identified. The associated funerary object recovered from the infant burial is a single shell pendant (Accession #93.163.01.01).

The site has been identified by Archaeologist B. Calvin Jones as the location of a Native American reservation designated by the 1823 Treaty of Moultrie Creek. The political situation at the time of the treaty was unsettled, and Tribes present during the treaty meetings were described in historic accounts as Apalachicola, northern division of the Seminole, Miccosukee, and Lower Creek. Some of the tribal leaders recorded as present during these meetings included Neamathla, Tuskihadjo, Emathlochee, Econchatomico, Yellow Hair, Mulatto King, and John Blount. Descendants of these groups now are members of several Indian Tribes, including the Alabama-Coushatta Tribe of Texas (previously listed as the Alabama-Coushatta Tribes of Texas); Alabama-Quassarte Tribal Town; Coushatta Tribe of Louisiana; Kialegee Tribal Town; Miccosukee Tribe of Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; and Thlopthlocco Tribal Town, (hereafter referred to as “The Tribes”).

Determinations Made by the Florida Department of State, Division of Historical Resources

Officials of the Florida Department of State, Division of Historical Resources have determined that:

• Pursuant to 25 U.S.C. 3001(9), the human remains described in this notice represent the physical remains of two individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains the associated funerary object and The Tribes.

Additional Requestors and Disposition

Lineal descendants or representatives of any Indian tribe or Native Hawaiian organization not identified in this notice that wish to request transfer of control of these human remains and associated funerary object should submit a written request with information in support of the request to Kathryn Miyar, Florida Department of State, Mission San Luis Collections, 2100 West Tennessee Street, Tallahassee, FL 32304, telephone (850) 245-6301, email kathryn.miyar@dos.myflorida.com, by June 20, 2018. After that date, if no additional requestors have come forward, transfer of control of the human remains and associated funerary object to The Tribes may proceed.

The Florida Department of State, Division of Historical Resources is responsible for notifying The Tribes that this notice has been published.

Dated: April 30, 2018.
Melanie O'Brien,
Manager, National NAGPRA Program.

[FR Doc. 2018-10783 Filed 5-18-18; 8:45 am]

BILLING CODE 4312-52-P